DEPARTMENT OF THE INTERIOR

National Park Service

Notice of Inventory Completion: San Diego Archaeological Center, San Diego, CA

AGENCY: National Park Service, Interior.

ACTION: Notice.

Notice is here given in accordance with the Native American Graves Protection and Repatriation Act (NAGPRA), 25 U.S.C. 3003, of the completion of an inventory of human remains in the possession of the San Diego Archaeological Center, San Diego, CA. The human remains were removed from the archeological site CA-SDI-11,068A, San Diego County, CA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by San Diego Archaeological Center professional staff in consultation with representatives of the Luiseno Nation, on behalf of the La Jolla Band of Luiseno Mission Indians of the La Jolla Reservation, California; Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; Soboba Band of Luiseno Indians, California; and Twenty-Nine Palms Band of Luiseno Mission Indians of California.

In 1989, human remains representing a minimum of one individual were removed from archeological site CA-SDI-11,068A, San Marcos, San Diego County, CA, as part of an archeological excavation performed in compliance with the California Environmental Quality Act (CEQA). On May 10, 2006, the collection was accessioned by the San Diego Archaeological Center, and assessed for objects eligible for repatriation in accordance with NAGPRA. No known individual was identified. No associated funerary objects are present.

No lineal descendants have been identified. Geographic affiliation is consistent with the historically documented Luiseno Nation traditional tribal area. The burials have been attributed to the proto-historic period that has been associated with the cultural antecedents of the Luiseno Nation in the region. The Luiseno Nation is represented by the La Jolla Band of Luiseno Mission Indians of the La Jolla Reservation, California; Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; Soboba Band of Luiseno Indians, California; and Twenty-Nine Palms Band of Luiseno Mission Indians of California.

Officials of the San Diego Archaeological Center have determined that, pursuant to 25 U.S.C. 3001 (9-10), the human remains described above represent the physical remains of one individual of Native American ancestry. Officials of the San Diego Archaeological Center also have determined that, pursuant to 25 U.S.C. 3001 (2), there is a relationship of shared group identity that can be reasonably traced between the Native American human remains and the Luiseno Nation, which is represented by the La Jolla Band of Luiseno Mission Indians of the La Jolla Reservation, California; Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; Soboba Band of Luiseno Indians, California; and Twenty-Nine Palms Band of Luiseno Mission Indians of California.

Representatives of any other Indian tribe that believes itself to be culturally affiliated with the human remains should contact Cindy Stankowski, San Diego Archaeological Center, 16666 San Pasqual Valley Road, Escondido, CA 92027-7001, telephone (760) 291-0370, before November 6, 2008. Repatriation of the human remains to the Luiseno Nation, on behalf of the La Jolla Band of Luiseno Mission Indians of the La Jolla Reservation, California; Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; Soboba Band of Luiseno Indians, California; and Twenty-Nine Palms Band of Luiseno Mission Indians of California may proceed after that date if no additional claimants come forward.

The San Diego Archaeological Center is responsible for notifying the La Jolla Band of Luiseno Mission Indians of the La Jolla Reservation, California; Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; Soboba Band of Luiseno Indians, California; Twenty-Nine Palms Band of Luiseno Mission Indians of California; and San Luis Rey Band of Mission Indians, a non-federally recognized Indian group, that this notice has been published.

Dated: September 10, 2008
Sherry Hutt,
Manager, National NAGPRA Program.

[FR Doc. E8-23692 Filed 10-6-08; 8:45 am]

BILLING CODE 4312-50-S